DEPARTMENT OF HEALTH AND HUMAN SERVICES

Centers for Disease Control and Prevention

[Program Announcement 00047]

Cooperative Agreement to Test, Disseminate, and Evaluate (A) Educational Materials and Messages, and (B) Training Programs Concerning Prevention and Control of Viral Hepatitis; Notice of Availability of Funds

A. Purpose

The Centers for Disease Control and Prevention (CDC) announces the availability of fiscal year (FY) 2000 funds for a cooperative agreement program to test, disseminate, and evaluate educational materials and messages for prevention and control of viral hepatitis, and/or to develop, implement, and evaluate training programs for health professionals to address prevention and control of viral hepatitis. CDC is committed to achieving the health promotion and disease prevention objectives of “Healthy People 2010,” a national activity to reduce morbidity and mortality and improve the quality of life. This announcement is related to the focus areas of Immunization and Infectious Diseases. For the conference copy of “Healthy People 2010”, visit the internet site http://www.health.gov/healthypeople.

The purpose of the program is to evaluate and disseminate health education materials and messages and develop and implement training programs that will lead to reduction of the incidence of viral hepatitis in the United States (U.S.) through an increased awareness of viral hepatitis among health professionals, high risk populations, and the general public. One goal of this program is to assist national health organizations in testing and disseminating accurate information on viral hepatitis to target audiences (i.e., at-risk populations, patients, and the general public). A second goal of the program is to aid national and regional health organizations in training and educating health care professionals to prevent and control the spread of viral hepatitis. Through testing, dissemination, and evaluation of accurate educational materials and messages, the following objectives can be met: (1) Increase the target population's awareness of risk factors for and ways to prevent infection with viral hepatitis, and (2) increase the number of persons at high risk of infection who seek and obtain appropriate viral hepatitis prevention and control services. Through development and implementation of training for health professionals, the following objectives can be met: (1) improve health care professionals' knowledge of viral hepatitis prevention and control; and (2) increase the number of health professionals and organizations who offer appropriate viral hepatitis prevention and control services. Applicants may apply for one or both components of this announcement.

B. Eligible Applicants

Assistance will be provided only to national or regional (multi-state) nonprofit organizations which currently devote their activities and resources to educating the public, patients, and health professionals about the prevention and control of viral hepatitis and viral-hepatitis-related liver disease, or who devote a major portion of their activities to educating the public, patients, and health care professionals about the prevention and control of other blood-borne viral infections, vaccine-preventable diseases, or sexually transmitted diseases, and could readily expand to cover viral hepatitis. For the purposes of this announcement, a national organization is one that has members or chapters in more than 25 states and conducts prevention information and/or education activities in those areas.

Note: Public Law 104-65 states that an organization described in section 501(c)(4) of the Internal Revenue Code of 1986 that engages in lobbying activities is not eligible to receive Federal funds constituting an award, grant, cooperative agreement, contract, loan, or any other form.

C. Availability of Funds

Approximately $900,000 is available in FY 2000 to fund approximately six awards. It is expected that the average award will be $150,000, ranging from $50,000 to $350,000. It is expected that the awards will begin on or about September 30, 2000 and will be made for a 12-month budget period within a project period of up to 3 years. Approximately $400,000 will be available for Part A, with an average award ranging from $50,000 to $150,000; for Part B, approximately $200,000 will be available with average awards range being $100,000—$200,000; and for combined A and B approximately $200,000 will be available for an average award of $100,000—$200,000. The funding estimates may change.

Continuation awards within an approved project period will be made on the basis of satisfactory progress as evidenced by required reports and the availability of funds.

D. Program Requirements

In conducting activities to achieve the purpose of this program, the recipient will be responsible for the activities under Recipient Activities, and CDC will be responsible for the activities listed under CDC Activities, CDC Activities will apply to each part (A; B; and A & B). Applicants must indicate for which part they intend to seek funding under this agreement: Part A; Part B; or both ( A and B).

Part A. Testing, Integration, Dissemination, Evaluation of Materials and Messages

Recipient Activities

1. Identify gaps in existing educational messages and materials, especially for persons at high risk for viral hepatitis;

2. Conduct a needs assessment to determine what types of materials and messages might best reach targeted audiences (e.g., adolescents at high risk for infection, parents of children at risk for infection, high risk adults, health care providers).

3. Identify and test existing educational health materials and messages that fill identified gaps through collaboration with organizations and groups that represent the target audiences, including high risk groups, health care professionals and organizations, and the general public. Identified health messages and materials should incorporate accurate information on viral hepatitis, which is consistent with published CDC guidelines on prevention and control of hepatitis A, B, and C including:

a. CDC. Prevention of hepatitis A through active or passive immunization: recommendations of the Advisory Committee on Immunization Practices (ACIP). MMWR 1999;48(No.RR-12).

b. CDC. Recommendations for prevention and control of hepatitis C virus (HCV) infection and HCV-related chronic disease. MMWR 1998;47(No.RR-19), 1-33.

c. CDC. Vaccine-preventable diseases: improving vaccination coverage in children, adolescents, and adults. A report on recommendations of the Task Force on Community Preventive Services. MMWR 1999;48(No.RR-8):1-15.

d. CDC. Hepatitis B virus: a comprehensive strategy for eliminating transmission in the United States through universal childhood vaccination. MMWR 1991;40(No.RR-13): 1-17.

e. CDC. Immunization of adolescents: recommendations of the ACIP, the AAP, the AAFP, and the AMA. MMWR 1996;45[No.RR-13]

f. CDC. Immunization of health-care workers: recommendations of the ACIP and the HICPAC. MMWR 1997;46[No.RR-18].

4. Identify strategies to integrate educational health messages and materials into information and programs for target audiences which include individuals at risk for or infected with hepatitis A virus (HAV), HCV, or hepatitis B virus (HBV), health care professionals and advocacy groups who provide services for these persons, and the general public. Recipient may network with other organizations or groups (professional, voluntary, governmental, community-based) that work with minority populations with high rates of viral hepatitis or groups/populations at high risk of specific types of viral hepatitis (e.g. American Social Health Association [ASHA], National Hispanic Medical Association [NHMA], National Council of Black Churches, Indian Health Service, and others).

5. Develop and implement protocols to evaluate the success of health messages and materials in (1) reaching target audiences, (2) increasing knowledge of viral hepatitis in target populations, and (3) increasing behaviors for prevention and control of viral hepatitis among target populations. The latter should include (a) increasing the number of persons at risk for viral hepatitis who seek and accept recommended testing, vaccination, counseling, and medical evaluation, if appropriate, and (b) increasing the number of health professionals or educators who offer accurate and appropriate information and prevention and control services such as testing, counseling, vaccination, and medical referral to persons at risk for or infected with viral hepatitis.

6. Routinely share results of needs assessment, materials testing, integration of materials, evaluation plans and other activities with other organizations receiving CDC funds under this cooperative agreement.

7. Attend and participate in an annual meeting of project managers, to plan and present program activities and evaluate activities.

Part B. Develop, Implement, and Evaluate Training of Health Professionals

Recipient Activities

1. Identify training needs and gaps in existing training programs for health professionals who provide services for persons with, or at risk for, viral hepatitis, including physicians, nurses, physician assistants and other health professionals, as well as health professionals in training (e.g., medical, nursing students). This should include review of existing literature or survey results of target audiences, as well as collecting additional needs assessment information from targeted groups, through focus groups or surveys, as necessary;

2. Develop and implement training modules, materials, mechanisms, and programs, especially those that can be integrated into existing or ongoing training programs, for health professionals and organizations that will fill identified needs. This may be done through collaboration with other organizations or groups (professional, voluntary, governmental, community-based) that represent health professionals that provide services for minority populations with high rates of viral hepatitis or groups/populations at high risk of specific types of viral hepatitis (e.g. National Hispanic Medical Association [NHMA], National Medical Association [NMA]); training materials should incorporate accurate information for viral hepatitis, which are consistent with published CDC guidelines on prevention and control of hepatitis A, B, and C (see references pp. 5-6). Develop and implement protocols to evaluate the success of materials, training instruments and programs in (1) increasing knowledge of viral hepatitis among targeted groups of health professionals, and (2) increasing the number of health professionals and organizations that offer persons at risk for viral hepatitis preventive services (including education, testing, vaccination, counseling, and medical evaluation, if appropriate).

3. Share schedules of events and activities with CDC and other organizations receiving funds under this cooperative agreement.

4. Attend and participate in an annual meeting of project managers, to plan, present, and evaluate program activities.

CDC Activities

1. Upon request, provide scientific and public health consultation and assistance in the development of training materials and protocols related to the cooperative agreement;

2. Upon request, provide consultation and technical assistance regarding implementation of training protocols;

3. Upon request, provide technical assistance in developing evaluation plan and conducting and interpreting evaluation of training programs;

4. Assist in reporting and validating relevant information concerning viral hepatitis made available to Federal, State, local health agencies, health care professionals, and volunteer organizations; and

5. Assist in the development of a research protocol for Institutional Review Board (IRB) review by all cooperating institutions participating in the research project. The CDC IRB will review and approve the protocol initially and on at least an annual basis until the research project is completed.

E. Application Content

Letter of Intent (LOI)

In order to assist CDC in planning and executing the evaluation of applications submitted under this announcement, all parties intending to submit an application are requested to inform CDC of their intention to do so at least thirty (30) days prior to the application due date. Notification should include: (1) name and address of institution, (2) name, address, and telephone number of contact person, and (3) which section (part A, B, or both) you will apply for. Notification should be provided by facsimile, postal mail, or E-mail, to Gladys T. Gissentanna, Procurement and Grants Office, Centers for Disease Control and Prevention (CDC), 2920 Brandywine Road, Room 3000, Atlanta, GA 30342-4146, E-mail address: gcg4@cdc.gov, Facsimile (770) 488-2777.

Application Content

Use the information in the Program Requirements, Other Requirements, and Evaluation Criteria sections to develop the application content. The application will be evaluated on the criteria listed, so it is important to follow them in laying out your program plan. The narrative should be no more than 20 double-spaced, numbered pages (including budget, excluding appendices), printed on one side, with one inch margins, and unreduced font. A detailed index to application contents, including appendices, as well as a 2-page executive summary should be included at the front of the application (included in the 20-page limit).

F. Submission and Deadline

Letter of Intent (LOI)

The letter of intent should be submitted on or before May 15, 2000, to the Grants Management Specialist identified in the “Where to Obtain Additional Information” section of this announcement.

Application

Submit the original and two copies of PHS 5161-1 (OMB Number 0937-0189). Forms are available in the application kit and at the following Internet address: www.cdc.gov/...Forms. On or before June 15, 2000, submit the application to the Grants Management Specialist identified in the “Where to Obtain Additional Information” section of this announcement.

Deadline: Applications shall be considered as meeting the deadline if they are either:

(a) Received on or before the deadline date; or

(b) Sent on or before the deadline date and received prior to submission to the review panel for orderly processing. (Applicants must request a legibly dated U.S. Postal Service postmark or obtain a legibly dated receipt from a commercial carrier or U.S. Postal Service. Private metered postmarks shall not be acceptable as proof of timely mailing.)

Late Applications: Applications which do not meet the criteria in (a) or (b) above are considered late applications, will not be considered, and will be returned to the applicant.

G. Evaluation Criteria

Each application will be evaluated individually against the following criteria by an independent review group appointed by CDC. Each applicant will be evaluated only on the part of the application to which they are applying: part A, B, or both, with total score of 100 for each section.

1. Background and understanding (10 points)

Extent to which the applicant demonstrates a clear understanding of the subject area and responds to the purpose and objectives of this cooperative agreement, including collaboration in all aspects of the agreement with CDC program staff and other cooperative agreement recipients.

2. Capacity (45 points)

Extent to which the applicant provides evidence of adequate resources, facilities, experience (both technical and administrative), and access to target audiences for conducting the project. This should include:

a. documentation that professional personnel involved are qualified and have past successful experience and achievements related to the proposed activities; this can include experience of either direct or collaborating personnel in providing viral hepatitis or other communicable disease (e.g., HIV) education and/or training in prevention and control activities. (10 points)

b. inclusion of original letters of support from appropriate non-applicant organizations, individuals, institutions, academic institutions, public health departments, etc. needed to carry out proposed activities and the extent to which such letters clearly indicate the author's commitment to participate as described in the operational plan. (10 points)

c. Evidence of past success in developing, testing, and disseminating health education materials, messages, or training programs. (10 points)

d. Extent of demonstrated experience in areas of viral hepatitis or other blood-borne virus prevention and control, education, or training, and demonstrated success in developing, disseminating, and evaluating the impact of educational materials, messages, and programs in disease prevention/health promotion at different levels (e.g., community, high risk populations, minority populations, patients, health care professionals). Extent of demonstrated access to target populations, and successful collaborations with a variety of organizations, government, private, non-profit, academic, and evidence of existing quality assurance mechanisms to ensure appropriate and culturally sensitive health educational and training services as recommended for the proposed audiences (e.g., health care professionals, high risk groups and settings), as well as access to proposed audiences. (15 points).

3. Objectives and Technical Approach (45 points)

a. Extent to which the applicant describes objectives of the proposed project which are (1) consistent with the purpose and goals of this cooperative agreement program, (2) measurable and time-phased and (3) consistent with published CDC guidelines on prevention and control of hepatitis A, B, and C (see MMWR references cited in the Part A Recipient Activities part of this document). (10 points)

b. Extent and quality of detailed operational plan proposed for designing, implementing, and evaluating the program, which clearly and appropriately addresses all “Recipient Activities” in the application, and are appropriate and adequate to accomplish the objectives of the program. These activities will be scored in three categories:

(1) Identification of gaps in existing materials and programs and needs assessment. (10 points)

(2) Testing and implementation/ dissemination of materials and/or programs. (5 points)

(3) Evaluation including methods and instruments for evaluating progress in determining needs, testing of educational materials, messages, and training, dissemination, implementation, and outcome evaluation. (5 points)

c. Extent to which the applicant clearly identifies specific assigned responsibilities of all key professional personnel, and describes collaboration with CDC and other partners, including other recipients of funds under this cooperative agreement during various phases of the project. (5 points)

d. The degree to which the applicant has met the CDC Policy requirements regarding the inclusion of women, ethnic, and racial groups in the proposed program. This includes: (1) The proposed plan for the inclusion of both sexes and racial and ethnic minority populations for appropriate representation; (2) The proposed justification when representation is limited or absent; (3) A statement as to whether the plans for recruitment and outreach for participants include the process of establishing partnerships with community(ies) and recognition of mutual benefits. (5 points)

4. Budget (not scored)

The budget will be reviewed to determine the extent to which it is reasonable, clearly justified, consistent with the intended use of funds.

a. Submit line-item itemized budget with narrative justification for personnel, travel, supplies, laboratory testing, and other services related to the project;

b. For contracts, include the name of the person or firm to receive the contract, the method of selection, the period of performance, method of accountability, and a description of the contracted service requested;

c. Funding levels for years two and three should be estimated.

5. Human Subjects (not scored) Does the application adequately address the requirements of Title 45 CFR Part 46 for the protection of human subjects?

H. Other Requirements

Technical Reporting Requirements

Provide CDC with original plus two copies of

1. progress reports (semiannual);

2. financial status report, no more than 90 days after the end of the budget period; and

3. final financial and performance reports, no more than 90 days after the end of the project period. Send all reports to the Grants Management Specialist identified in the “Where to Obtain Additional Information” section of this announcement.

The following additional requirements are applicable to this program. For a complete description of each, see Attachment I in the application kit.

AR-1 Human Subjects Requirements

AR-2 Requirements for Inclusion of Women and Racial and Ethnic Minorities in Research

AR-9 Paperwork Reduction Act Requirements

AR-10 Smoke-Free Workplace Requirements

AR-11 Healthy People 2010

AR-12 Lobbying Restrictions

AR-15 Proof of Non-Profit Status

I. Authority and Catalog of Federal Domestic Assistance Number

This program is authorized under sections 301(a), 317(k)(1) and 317(k)(2) of the Public Health Service Act, [42 U.S.C. section 241(a), 247b(k)(1) and 247(k)(2)], as amended. The Catalog of Federal Domestic Assistance number is 93.283.

J. Where to Obtain Additional Information

To receive additional written information and to request an application kit, call 1-888-GRANTS4 (1-888-472-6874). You will be asked to leave your name and address and will be instructed to identify the Announcement number of interest, 00047.

See also the Centers for Disease Control and Prevention Internet Website http://www.cdc.gov and the Program and Grants Office Website for additional funding opportunities and electronic versions of all necessary forms www.cdc.gov/...forms.

If you have questions after reviewing the contents of all the documents, business management technical assistance may be obtained from: Gladys T. Gissentanna, Grants Management Specialist, Grants Management Branch, Procurement and Grants Office, Centers for Disease Control and Prevention, Room 3000, 2920 Brandywine Road, Atlanta, GA 30341-4146, Telephone number (770) 488-2753, E-mail address gcg4@cdc.gov.

For program technical assistance, contact: Linda Moyer, Centers for Disease Control and Prevention, National Center for Infectious Diseases, Division of Rickettsial Diseases, Hepatitis Branch, 1600 Clifton Road, NE, M/S G-37, Atlanta, GA 30333, Telephone: (404) 371-5460, E-mail address: lam1@cdc.gov.

Dated: April 26, 2000.
Henry S. Cassell, III,
Acting Director, Procurement and Grants Office, Centers for Disease Control and Prevention (CDC).

[FR Doc. 00-10877 Filed 5-1-00; 8:45 am]

BILLING CODE 4163-18-U